CONSUMER PRODUCT SAFETY COMMISSION

Sunshine Act Meeting; Time Change Notice

FEDERAL REGISTER CITATION OF PREVIOUS ANNOUNCEMENT: Vol. 77, No. 86, Thursday, May 3, 2012, page 26254.

ANNOUNCED TIME AND DATE OF CLOSED MEETING: 10 a.m.-11 a.m., Wednesday May 9, 2012.

CHANGES TO CLOSED MEETING: TIME CHANGE to 2 p.m.-3 p.m., Wednesday, May 9, 2012.

AGENDA: Compliance Status Report.

For a recorded message containing the latest agenda information, call (301) 504-7948.

CONTACT PERSON FOR ADDITIONAL INFORMATION: Todd A. Stevenson, Office of the Secretary, 4330 East West Highway, Bethesda, MD 20814, (301) 504-7923.

Dated: May 4, 2012.
Todd A. Stevenson,
Secretary.

[FR Doc. 2012-11141 Filed 5-4-12; 11:15 am]

BILLING CODE 6355-01-M